DEPARTMENT OF COMMERCE

National Oceanic and Atmospheric Administration

Agency Information Collection Activities; Submission to the Office of Management and Budget (OMB) for Review and Approval; Comment Request; Alaska Pacific Halibut Fisheries: Subsistence

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 10, 2023.

ADDRESSES: Interested persons are invited to submit written comments to Adrienne Thomas, NOAA PRA Officer, at NOAA.PRA@noaa.gov. Please reference OMB Control Number 0648-0512 in the subject line of your comments. Do not submit Confidential Business Information or otherwise sensitive or protected information.

FOR FURTHER INFORMATION CONTACT: Requests for additional information or specific questions related to collection activities should be directed to Gabrielle Aberle, National Marine Fisheries Service, P.O. Box 21668, Juneau, AK, 99802-1668. Telephone 907-586-7356.

SUPPLEMENTARY INFORMATION:

I. Abstract

The National Marine Fisheries Service (NMFS), Alaska Regional Office, is requesting extension of a currently approved information collection for the Alaska Subsistence Halibut Program.

The International Pacific Halibut Commission (IPHC) promulgates regulations governing the North Pacific halibut fishery under the Convention between the United States and Canada for the Preservation of the Halibut Fishery of the Northern Pacific Ocean and Bering Sea (Convention). The IPHC's regulations are subject to approval by the Secretary of State with the concurrence of the Secretary of Commerce. The Northern Pacific Halibut Act of 1982 (Halibut Act; 16 U.S.C. 773c(a)-(b)), provides the Secretary of Commerce with general responsibility for carrying out the Convention and the Halibut Act, including the authority to adopt regulations necessary to carry out the purposes and objectives of the Convention. The Halibut Act, 16 U.S.C. 773c(c), also provides the North Pacific Fishery Management Council (Council) with authority to develop regulations, including limited access regulations, that are in addition to, and not in conflict with, IPHC regulations.

Regulations the Council recommends may be implemented by NMFS only after approval by the Secretary of Commerce. The Council has exercised this authority in the development of subsistence halibut fishery management measures. NMFS has responsibility for managing the subsistence halibut fishery according to regulations approved by the Secretary. Regulations governing the subsistence halibut fishery are at 50 CFR 300.2, 300.4, and subpart E, and in the annual management measures published in the Federal Register pursuant to 50 CFR 300.62.

This information collection is necessary for NMFS to manage the Alaska Subsistence Halibut Program. Subsistence halibut means halibut caught by a rural resident or a member of an Alaska Native tribe for direct personal or family consumption as food, sharing for personal or family consumption as food, or customary trade. The Alaska Subsistence Halibut Program is intended to allow eligible persons to practice the long-term customary and traditional harvest of Pacific halibut for food in a non-commercial manner. This program provides NMFS the opportunity to enhance estimates of subsistence removals for stock assessment purposes.

Before fishing under subsistence halibut regulations, a Subsistence Halibut Registration Certificate (SHARC) must be obtained. This information collection contains the forms used by participants in the subsistence halibut fishery to apply for SHARCs, apply for special use permits, and submit harvest information for special use permits. This information collection contains two collections for which no forms are used: the appeals process for denied permits and marking subsistence setline fishing gear.

Information collected by the permit applications includes applicant information and depending on the permit type may include information on the educational program or a description of the cultural or ceremonial occasion the permit will be used for. NMFS uses this information to determine the eligibility of applicants to receive or renew permits.

The permit coordinators submit the harvest logs for Community Harvest Permits, Ceremonial Permits, and Educational Permits. Harvest logs collect identification information and harvest information for the subsistence fishermen fishing under that permit.

An appeals process is provided for an applicant who receives an adverse initial administrative determination related to their permit application.

Subsistence setline gear buoys must be marked with identification information that consists of the participant's name and address and an “S” to indicate subsistence halibut gear. This information is used by NMFS to link fishing gear to the vessel owner or operator and facilitate enforcement of regulations.

II. Method of Collection

The information is collected primarily by mail, fax, and delivery. SHARC renewals may be submitted online through eFISH on the NMFS Alaska Region website. The applications and harvest logs are available as fillable pdfs on the NMFS Alaska Region website at https://www.fisheries.noaa.gov/permit/alaska-subsistence-halibut-fishery-applications-and-reporting-forms. The fishing gear identification information is painted on marker buoys and is not submitted to NMFS.

III. Data

OMB Control Number:0648-0512.

Form Number(s): None.

Type of Review: Regular submission (extension of a current information collection).

Affected Public: Individuals or households; State, local, or Tribal government.

Estimated Number of Respondents: 6,293.

Estimated Time per Response: Application for SHARC Rural Resident: 10 minutes; Application for SHARC Alaska Native Tribal Member: 10 minutes; Application for SHARC Alaska Native Tribe: 30 minutes; Subsistence Halibut Special Permits Application: 30 minutes; Harvest logs: 30 minutes; Ceremonial or Educational Permit Log: 2 hours; Appeal for permit denial: 4 hours; Gear marking: 15 minutes.

Estimated Total Annual Burden Hours: 1,340 hours.

Estimated Total Annual Cost to Public: $59,660 in recordkeeping and reporting costs.

Respondent's Obligation: Required to Obtain or Retain Benefits.

Legal Authority: Northern Pacific Halibut Act of 1982 (16 U.S.C. 773c).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-17279 Filed 8-10-23; 8:45 am]

BILLING CODE 3510-22-P